DEPARTMENT OF HOMELAND SECURITY

Coast Guard

[Docket No. USCG-2013-0182]

National Offshore Safety Advisory Committee

AGENCY: United States Coast Guard.

ACTION: Committee Management; Notice of Federal Advisory Committee Meetings.

SUMMARY: The National Offshore Safety Advisory Committee (NOSAC) will meet on April 17 and 18, 2013, in New Orleans, LA, to discuss various issues related to safety of operations and other matters affecting the oil and gas offshore industry. These meetings are open to the public.

DATES: A subcommittee of NOSAC will meet on Wednesday, April 17, 2013 from 1 p.m. to 3 p.m. and the full committee will meet on Thursday, April 18, 2013, from 8:30 a.m. to 4 p.m. Please note that the meetings may close early if the committee has completed its business or be extended based on the level of public comments.

ADDRESSES: The meetings will be held at the Wyndham Garden New Orleans Baronne Plaza Hotel, 201 Baronne Street, New Orleans, LA 70112, 1-504-522-0083, http://www.wyndham.com/hotels/louisiana/new-orleans/wyndham-garden-baronne-plaza-new-orleans/hotel-overview. The April 17 afternoon subcommittee meeting will be held in the Magnolia Room. The April 18 meeting will be held in the Jazz Hall Ballroom.

For information on facilities or services for individuals with disabilities or to request special assistance at the meeting, contact the person listed in FOR FURTHER INFORMATION CONTACT as soon as possible.

To facilitate public participation, we are inviting public comment on the issues to be considered by the committee prior to the adoption of recommendations as listed in the “AGENDA” section below. Comments must be submitted in writing no later than April 2, 2013, and must be identified by USCG-2013-0182 and may be submitted by one of the following methods:

• Federal eRulemaking Portal: http://www.regulations.gov. Follow the instructions for submitting comments.

• Fax: (202) 493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2013-0182 in the Keyword ID box, press Enter, and then click on the item you are interested in viewing.

A public comment period will be held during the meeting on April 18, 2013, and speakers are requested to limit their comments to 5 minutes. Please note that the public comment period may end before the time indicated, following the last call for comments. Contact one of the individuals listed below to register as a speaker.

FOR FURTHER INFORMATION CONTACT: Commander Rob Smith, Designated Federal Official (DFO) of NOSAC, Commandant (CG-OES-2), U.S. Coast Guard, 2100 Second Street SW., Stop 7126, Washington, DC 20593-0001; telephone (202) 372-1410, fax (202) 372-1926, or Mr. Scott Hartley, Alternate Designated Federal Official (ADFO) of NOSAC, Commandant (CG-OES-2), U.S. Coast Guard, 2100 Second Street SW., Stop 7126, Washington, DC 20593-0001; telephone (202) 372-1437, fax (202) 372-1926. If you have questions on viewing or submitting material to the docket, call Barbara Hairston, Program Manager, Docket Operations, telephone 202-366-9826.

SUPPLEMENTARY INFORMATION: Notice of this meeting is given under the Federal Advisory Committee Act, 5 U.S.C. App. (Pub. L. 92-463). NOSAC provides advice and recommendations to the Department of Homeland Security on matters and actions concerning activities directly involved with or in support of the exploration of offshore mineral and energy resources insofar as they relate to matters within U.S. Coast Guard jurisdiction.

Agenda

Day 1

NOSAC's active subcommittee (Recommended Standards for Accommodation Service Vessels) will meet on April 17, 2013 between 1 p.m. and 3 p.m., to discuss its ongoing work.

Day 2

The NOSAC will meet on April 18, 2013 to review and discuss progress reports and recommendations received from the Recommended Standards for Accommodation Service Vessels subcommittee from their deliberations on April 17. The Committee will then use this information and consider public comments in formulating recommendations to the agency. Public comments or questions will be taken at the discretion of the DFO during the discussion and recommendation portion of the meeting as well as during public comment period, see Agenda item (8).

A complete agenda for April 18th is as follows:

(1) Presentation and discussion of progress report and any recommendations from the subcommittee and subsequent actions on:

(a) Standards for Accommodation Service Vessels.

(2) New Business—Introduction of new Task Statements:

(a) Life Saving and Fire Fighting Voluntary Standards on the Outer Continental Shelf (OCS);

(b) Electrical Equipment in Hazardous Areas on Foreign Flag Mobile Offshore Drilling Units (MODUs);

(c) Safety Impact of Liftboat Sea Service Limitations;

(d) Marine Casualty Reporting/Form CG-2692 Revisions; and

(e) U.S. Implementation of Standards from International Labor Organization—Maritime Convention of 2006,

(3) An update on recent U.S. Coast Guard (USCG) regulations and Federal Register notices that affect the offshore industry;

(4) USCG Outer Continental Shelf National Center of Expertise update on U.S. Coast Guard OCS training initiatives.

(5) Update on International Maritime Organization activities of interest to the OCS community;

(6) Towing of MODUs;

(7) Overview and history of manning on MODUs; and

(8) Period for public comment.

A copy of each report will be available approximately 7 days prior to the meeting at the https://www.fido.gov Web site or by contacting Mr. Scott Hartley. Use “code 68” to identify NOSAC when accessing this material through the Web site. Once you have accessed the committee page, click on the meetings tab and then the “View” button for the meeting dated April 18, 2013, to access the information for this meeting. Minutes will be available approximately 30 days after this meeting. Both minutes and documents applicable for this meeting can also be found at an alternative site using the following Web address: https://homeport.uscg.mil/NOSAC.

The meeting will be transcribed. A transcript of the meeting and any material presented at the meeting will be made available through the https://www.fido.gov and https://homeport.uscg.mil/NOSAC Web sites.

The committee will review the information presented on each issue, deliberate on any recommendations presented in the subcommittee's progress report, and formulate recommendations for the agency's consideration.

Dated: March 21, 2013.
J.G. Lantz,
Director of Commercial Regulations and Standards.

[FR Doc. 2013-07092 Filed 3-26-13; 8:45 am]

BILLING CODE 9110-04-P